DEPARTMENT OF TRANSPORTATION

Federal Transit Administration

Environmental Impact Statement for the Long Island Rail Road Main Line Corridor Improvements, Long Island, NY

AGENCY: Federal Transit Administration (FTA), DOT.

ACTION: Notice of intent to prepare an environmental impact statement.

SUMMARY: The FTA, in cooperation with the Metropolitan Transportation Authority (MTA) Long Island Rail Road (LIRR), will prepare an Environmental Impact Statement (EIS) on a proposal to make LIRR Main Line Corridor improvements between Queens Village and Hicksville in Queens and Nassau Counties New York.

The FTA is the lead federal agency under the National Environmental Policy Act of 1969 (NEPA). The project is being conducted by LIRR, the project sponsor. The EIS will be prepared in accordance with NEPA and the applicable regulations for implementing NEPA, as set forth in 23 CFR part 771 and 40 CFR parts 1500-1508, as well as applicable laws and regulations, including Section 4(f) of the Department of Transportation Act of 1966, the Clean Air Act, and Executive Order 12898 on Environmental Justice. As sponsor of the proposed project, the LIRR will ensure that the EIS and the environmental review process will also satisfy the requirements of the New York State Environmental Quality Review Act (SEQRA).

The Proposed Action would consist of the addition of a new third track to the existing two track configuration between the Queens Interlocking in Queens County and the Divide Interlocking in Nassau County, with crossover service to the Oyster Bay Branch east of the Mineola Station. The Proposed Action may include modification or additions of: Crossovers, interlockings, sidings, bridges (over/undergrade bridges, viaducts, and culverts), signal systems (signal brides, signal huts, signals, control towers), communications, substations, and retaining walls. Modifications to existing stations may be required such as changes to station buildings, parking, shelters/waiting rooms, platform placement and amenities such as the addition of elevators at stations. Up to five (5) roadway grade crossings will be considered for separation and/or closure. Property acquisitions may be necessary to accommodate the Proposed Action, as well as utility relocations (including but not limited to: Electric, signal, communications, gas, water, sewer, and storm systems).

The EIS will evaluate a No Action Alternative and various Build Alternatives, and any additional alternatives generated by the scoping process. Scoping will be accomplished through meetings and correspondence with interested persons, organizations, and Federal, State, regional, and local agencies.

DATES: The public is invited to participate in project scoping on June 14th, 16th, and 21st 2005 from 4 p.m. to 6 p.m. and from 7 p.m. to 9 p.m. at the locations identified under the ADDRESSES below to ensure that all significant issues are identified and considered. Presentation boards depicting the project concept will be available for review at the meeting locations. Formal presentations by the LIRR regarding the project will be made at 4:30 p.m. and 7:30 p.m., each followed by the opportunity for the public to make comments on the scope of the EIS. LIRR representatives will be available for informal questions and comments throughout the duration of each scoping meeting. Those wishing to speak are requested to register at the meeting location upon arrival. However, additional speakers will be invited until there are no other speakers requesting to be heard. Subsequent opportunities for public involvement will be announced on the Internet, by mail, and through other appropriate mechanisms, and will be conducted throughout the study area. Additional project information may be obtained from the MTA Web site: http://www.mta.info (click “Inside the MTA” then “Planning Studies,” and “LIRR Main Line Corridor Improvements”). Written comments on the scope of the EIS should be sent to Mr. Peter Palamaro, the LIRR Public Affairs Representative by August 31, 2005 at the address given under ADDRESSES below.

ADDRESSES: The public scoping meetings will be held:

• Tuesday, June 14, 2005, at Jericho Terrace—249 Jericho Turnpike, Mineola, NY 11501;

• Thursday, June 16, 2005, at Floral Terrace—250 Jericho Turnpike, Floral Park, NY 11001; and

• Tuesday, June 21, 2005, at Antuns Hicksville—244 West Old Country Road, Hicksville, NY 11801.

The scoping meeting sites are accessible to mobility-impaired people and interpreter services will be provided for hearing-impaired people upon request. Written comments will be taken at the meeting or may be sent to the following address at any time during the scoping period, which is thru August 31, 2005: Mr. Peter Palamaro, Long Island Rail Road Company, Jamaica Station, Jamaica, New York 11435. The scoping packet may also be requested by writing to this address or by calling (718) 558-7934. Requests to be placed on the project mailing list may also be made by calling this number or by writing to the project address above.

FOR FURTHER INFORMATION CONTACT: Ms. Nancy Danzig, Community Planner, Federal Transit Administration, (212) 668-2180.

SUPPLEMENTARY INFORMATION:

I. Scoping

FTA and the LIRR invite interested individuals, organizations, and Federal, State, and local agencies to provide comments on the scope of the Main Line Corridor Improvements EIS. During the scoping process, comments should focus on specific social, economic, or environmental issues to be evaluated, and on suggesting alternative that may be less costly or have fewer environmental impacts while achieving similar transportation objectives. To assist interested parties in formulating their comments, a scoping information packet has been prepared and is available on the MTA Web site address noted above, or upon request from the LIRR representative identified above. The scoping information packet includes the project's purpose and need, a preliminary list of alternative, and environmental issues that will be addressed during the course of the study. An online of the on-going public participation program is also contained in the information packet and on the Internet site given above.

II. Description of the Project Area

The MTA Long Island Rail Road is the busiest commuter railroad in North America, carrying an average of 274,000 customers each weekday on 730 daily trains. The LIRR system includes 11 rail lines stretching from Montauk—on the eastern tip of Long Island—to the refurbished Penn Station in the heart of Manhattan, approximately 120 miles away. Along the way, the LIRR serves 124 rail stations in Nassau, Suffolk, Queens, Brooklyn and Manhattan, providing service for some 81 million customers each year.

The project area includes approximately 11.5 miles of the LIRR Main Line between Queens Village and Hicksville encompassing the following nine stations: Queens Village, Bellerose, Floral Park, New Hyde Park, Merillon Avenue, Mineola, Carle Place, Westbury, and Hicksville.

The project corridor is highly developed with primarily residential and commercial land use adjacent to the Main Line and surrounding areas. The section of the Main Line that represents the project corridor carries trains from five separate branches of the LIRR: Oyster Bay, Hempstead, Port Jefferson, Ronkonkoma, and Montauk.

A total of eight roadway grade crossings exist within the project corridor. The Main Line Corridor Improvement initiative will evaluate the potential for five of the eight roadway grade crossings to be separated and/or closed as part of the future design of Main Line improvements. The remaining three are being addressed through a partnership of: New York State Department of Transportation (NYSDOT), MTA/LIRR, Nassau County and the Federal Highway Administration (FHWA). The five roadway grade crossing being considered for separation and/or closure include:

• Covert Avenue in New Hyde Park;

• 12th Street in New Hyde Park;

• New Hyde Park Road in New Hyde Park;

• School Street in New Cassel; and

• Urban Avenue in New Cassel.

III. Problem Identification

The LIRR is expecting a significant increase in its service levels by the year 2030. This increase is a result of a number of factors including the forecast of ridership growth, desire to increase reverse peak and intra-island service opportunities, desire to further reduce non-revenue car miles, and planned future service growth to Manhattan terminals. Main Line Corridor improvements would allow express service between Jamaica and Hicksville during rush hours and provide the capacity necessary to accommodate reverse commuter service.

Roadway grade crossings throughout the project corridor cause substantial traffic delays that reduce roadway level of service and present safety concerns. Roadway grade crossings also require train horn soundings that increase ambient noise for adjacent noise-sensitive receptors.

IV. Purpose and Need for the Proposed Action

The purpose of the proposed Main Line Corridor Improvements, particularly the addition of a new third track, is to provide additional capacity for the railroad, provide operational flexibility, reduce severe congestion during peak travel periods, allow for sufficiently frequent reverse and intra-island commuting service to draw riders out of their automobiles, and accommodate anticipated service growth throughout the LIRR system. The addition of a third track will also improve on-time performance within the corridor, particularly during peak periods.

The need for the proposed improvements is detailed in the LIRR's Long Term Operations and Maintenance Strategy Report of 1999 and LIRR's Network Strategy Study of 1994. Specific needs associated with the limiting aspects of the existing Main Line configuration include:

• Limited peak-direction train movement because of the necessity to operate reverse-peak direction trains;

• Limited ability to expand reverse peak service to Mineola and Hicksville and to other Long Island centers of employment; and

• Constrained future growth of the LIRR system within the LIRR service territory.

V. Alternatives

The EIS will evaluate alternatives and options for the Proposed Action which will: (1) Provide feasible, cost effective and beneficial transit improvements that enhance connections to the existing transportation system and Long Island land uses; (2) meet the anticipated increase in transit use on the LIRR, (3) enhance Long Island and the region's economic vitality and quality of life. Alternatives to be evaluated will include:

• No Action Alternative. This alternative provides for minor improvements, repairs, and other maintenance actions to the existing LIRR system between Queens Village and Hicksville currently planned or programmed.

• Build Alternatives. Addition of a new third track to the existing two track configuration, roadway grade crossing improvements, and station area improvements will be grouped into a set of specific Build Alternatives. Each distinct Build Alternative will be evaluated against the No Action Alternative, and other Build Alternatives to determine the advantages and disadvantages of each. Build Alternatives may include elements of phasing. For example, a first phase might include construction of the portion of alignment from Queens Village to Mineola and a second phase might complete construction from Mineola to Hicksville.

Although compatible with and contributing to the functionality of the overall improvements, some elements of the Build Alternatives such as station rehabilitation elements or roadway grade crossing elements are functionally independent of the other elements of the Proposed Action. Although the current plan is to evaluate all of the elements in the EIS, as the project elements are developed and as schedules and construction phasing plans develop, it is possible that some of the independent elements may be advanced via separate environmental evaluations under NEPA.

VI. Potential Effects

Upon completion, the proposed Main Line Corridor improvements are anticipated to eliminate existing deficiencies in LIRR service noted above and generate positive impacts for Long Island residents, businesses, workers, and visitors.

Impacts that may occur as a result of the improvements will be evaluated in the EIS. The LIRR has identified several areas of concern, including: Property acquisition, historic and archaeological resources, parks and Section 4(f) properties, traffic and grade-crossings, noise and vibration, water quality, wetlands, and threatened and endangered species. Potential construction-related impacts associated with the construction phase include noise, vibration, business disruption, impacts on pedestrian and vehicle traffic, and air quality.

The EIS will describe the methodology used to assess impacts; identify the affected environment; and identify opportunities and measures for mitigating adverse impacts. Principles of environmental construction management, resource protection and mitigation measures, and the LIRR Sustainable Design/Design for Environment—Generic Guidelines (March 2003), developed pursuant to New York State Executive Order No. 111 “Green and Clean,” will be considered for incorporation into the Build Alternatives.

VII. FTA Procedures

During the NEPA process, FTA will also comply with the requirements of Section 106, National Historic Preservation Act, Section 4(f) of the Department of Transportation Act (49 U.S.C. 303), the Clean Air Act, and other applicable Federal and State environmental statutes, rules, and regulations, in accordance with FTA procedures.

Through the NEPA scoping process and as project development advances, it will be determined whether certain elements of the Full Build Alternative should be advanced independently or in combination with other elements, or be deferred for evaluation at a future time, in order to meet the transportation needs of Long Island with minimal impact and in a timely manner.

A Draft EIS will be prepared and made available for public and agency review and comment. One or more public hearings will be held on the Draft EIS. On the basis of the Draft EIS and the public and agency comments thereon, a preferred alternative will be selected and will be fully described and further developed in the Final EIS.

Issued on: April 29, 2005.
Letitia Thompson,
Regional Administrator, Region II.

[FR Doc. 05-9034 Filed 5-5-05; 8:45 am]

BILLING CODE 4910-57-M